DEPARTMENT OF VETERANS AFFAIRS

Advisory Committee on Homeless Veterans, Notice of Meeting

The Department of Veterans Affairs (VA) gives notice under Public Law 92-463 (Federal Advisory Committee Act) that a meeting of the Advisory Committee on Homeless Veterans will be held on September 5-7, 2012, in the Onondaga 3 Room at the Embassy Suites Hotel, 6646 Old Collamer Road South, East Syracuse, NY, from 8 a.m. to 4 p.m.

The purpose of the Committee is to provide the Secretary of Veterans Affairs with an on-going assessment of the effectiveness of the policies, organizational structures, and services of the Department in assisting homeless Veterans. The Committee shall assemble and review information relating to the needs of homeless Veterans and provide on-going advice on the most appropriate means of providing assistance to homeless Veterans. The Committee will make recommendations to the Secretary regarding such activities.

On September 5, the Committee will convene in open session to receive briefings from VA and other officials on services for homeless Veterans. The Committee will also receive briefings from subject matter experts on the Committee's annual report suggestions to VA's 5 Year Plan to End Homelessness for Veterans. On September 6, the Committee will convene in closed session to protect patient privacy to conduct a site visit at the Donald J. Mitchell VA Outpatient Clinic, Griffiss Business Park, 125 Brookley Road, Building 510, Rome, NY, and to receive information on homeless Veterans programs and services in rural areas. Closing portions of the sessions are in accordance with 5 U.S.C. 552b(c)(6). On September 7, the Committee will convene in open session to discuss items for its upcoming annual report and recommendations to the Secretary.

No time will be allocated at this meeting for receiving oral presentations from the public. Interested parties should provide written comments on issues affecting homeless Veterans for review by the Committee to Mr. Pete Dougherty, Designated Federal Officer, Homeless Veterans Initiative Office (075D), Department of Veterans Affairs, 1722 Eye Street NW., Washington, DC 20006, or email to pete.dougherty@va.gov. Any member of the public wishing to attend the meeting or wishing additional information should contact Mr. Dougherty at (202) 461-1857.

Dated: August 23, 2012.
By Direction of the Secretary.
Vivian Drake,
Committee Management Officer.

[FR Doc. 2012-21152 Filed 8-27-12; 8:45 am]

BILLING CODE P